DEPARTMENT OF THE INTERIOR

Fish and Wildlife Service

[FWS-HQ-NWRS-2019-N106; FXRS12630900000-190-FF09R81000; OMB Control Number 1018-0102]

Agency Information Collection Activities; National Wildlife Refuge Special Use Permit Applications and Reports

AGENCY: Fish and Wildlife Service, Interior.

ACTION: Notice of information collection; request for comment.

SUMMARY: In accordance with the Paperwork Reduction Act of 1995, we, the U.S. Fish and Wildlife Service (Service, we), are proposing to renew an information collection with revisions.

DATES: Interested persons are invited to submit comments on or before November 12, 2019.

ADDRESSES: Send your comments on the information collection request by mail to the Service Information Collection Clearance Officer, U.S. Fish and Wildlife Service, MS: PERMS/PRB (JAO/1N), 5275 Leesburg Pike, Falls Church, VA 22041-3803 (mail); or by email to Info_Coll@fws.gov. Please reference OMB Control Number 1018-0102 in the subject line of your comments.

FOR FURTHER INFORMATION CONTACT: To request additional information about this ICR, contact Madonna L. Baucum, Service Information Collection Clearance Officer, by email at Info_Coll@fws.gov, or by telephone at (703) 358-2503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed information collection request (ICR) that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Wildlife Refuge System Administration Act of 1966 (Administration Act, 16 U.S.C. 668dd-668ee), as amended by the National Wildlife Refuge System Improvement Act of 1997, consolidated all refuge units into a single National Wildlife Refuge System (System). It also authorized us to offer visitor and public programs, including those facilitated by commercial visitor and management support services, on lands of the System when we find that the activities are appropriate and compatible with the purpose(s) for which the refuge was established and the System's mission. The Refuge Recreation Act of 1962 (Recreation Act, 16 U.S.C. 460k-460k-4) allows the use of refuges for public recreation when it is not inconsistent or does not interfere with the primary purpose(s) of the refuge. The Alaska National Interest Lands Conservation Act (ANILCA, 16 U.S.C. 3101 et seq.) provides specific authorization and guidance for the administration and management of national wildlife refuges within the State of Alaska. Its provisions provide for the issuance of permits under certain circumstances.

We issue special use permits for a specific period as determined by the type and location of the management activity or visitor service provided. These permits authorize activities such as:

• Agricultural activities (haying and grazing, 50 CFR 29.1 and 29.2).

• Beneficial management tools that we use to provide the best habitat possible on some refuges (50 CFR 30.11, 31.14, 31.16, and 36.41).

• Special events, group visits, and other one-time events (50 CFR 25.41, 25.61, 26.36, and 36.41).

• Recreational visitor service operations (50 CFR 25.41, 25.61, and 36.41).

• Guiding for fishing, hunting, wildlife education, and interpretation (50 CFR 25.41 and 36.41).

• Commercial filming (43 CFR 5, 50 CFR 27.71) and other commercial activities (50 CFR 29.1 and 36.41).

• Building and using cabins to support subsistence or commercial activities (in Alaska) (50 CFR 26.35 and 36.41).

• Research, inventory and monitoring, and other noncommercial activities (50 CFR 26.36 and 36.41).

We use three forms to collect applicant information:

• FWS Form 3-1383-G (General Activities Special Use Application).

• FWS Form 3-1383-C (Commercial Activities Special Use Application).

• FWS Form 3-1383-R (Research and Monitoring Special Use Application).

The information we collect helps ensure that: (1) Applicants are aware of the types of information that may be needed for permit issuance; (2) requested activities are appropriate and compatible with the purpose(s) for which the refuge was established and the System's mission; and (3) the applicant is eligible or is the most qualified applicant to receive the special use permit.

We may collect the necessary information in a non-form format (through discussions in person or over the phone, over the internet, by email, or by letter). In some instances, respondents will be able to provide information verbally. Often, a simple email or letter describing the activity will suffice. For activities (e.g., commercial visitor services, research, etc.) that might have a large impact on refuge resources, we may require applicants to provide more detail on operations, techniques, and locations. Because of the span of activities covered by special use permits and the different management needs and resources at each refuge, respondents may not be required to answer all questions. Depending on the requested activity, refuge managers have the discretion to ask for less information than appears on the forms. However, refuge managers must not ask for more or different information.

We issue permits for a specific period as determined by the type and location of the use or service provided. We use these permits to ensure that the applicant is aware of the requirements of the permit and his/her legal rights. Refuge-specific special conditions may be required for the permit. We identify conditions as an addendum to the permit. Most of the special conditions pertain to how a permitted activity may be conducted and do not require the collection of information. However, some special conditions, such as activity reports, before and after site photographs, or data sharing, would qualify as an information collection, and we have included the associated burden below.

Proposed Revision

We are proposing to revise this collection to request OMB approval of a new form, FWS Form 3-1384, “Bid Sheet—National Wildlife Refuge System.” We developed this form to streamline collection of the necessary pre-award information from applicants during bidding processes to conduct economic uses on Service lands, such as livestock, harvesting hay and stock feed, or removing timber (50 CFR 29.21). This form will simplify the pre-award selection/bidding process for bidders and for refuge staff.

Currently, the only form approved for collection of this information is the Commercial Activities Special Use Permit Application (FWS Form 3-1383-C), which bidders and refuge staff alike find confusing and complicated; this hampers the Service's ability to collect the basic information necessary to determine which applicants will be awarded economic use privileges. The proposed Bid Sheet will be much clearer for bidders, better enabling them to understand what information the refuge needs in order to select bids for economic use, and, therefore, reducing the time and burden for the public and Service staff in the pre-award selection bidding process. This form is also easily customizable to the individual economic use being awarded. We will continue to use the Commercial Special Use Permit as the actual award document that will outline the terms and conditions of the economic use on Service lands.

Title of Collection: National Wildlife Refuge Special Use Permit Applications and Reports, 50 CFR 25, 26, 27, 29, 30, 31, 32, & 36.

OMB Control Number: 1018-0102.

Form Number: FWS Forms 3-1383-G, 3-1383-C, 3-1383-R, and 3-1384.

Type of Review: Revision of a currently approved collection.

Respondents/Affected Public: Individuals and households; businesses and other for-profit organizations; nonprofit organizations; farms; and State, local, or tribal governments.

Respondent's Obligation: Required to obtain or retain a benefit.

Frequency of Collection: On occasion for applications; annually or on occasion for reports.

Total Estimated Annual Nonhour Burden Cost: $270,300 for fees associated with applications for commercial use activities ($100.00 × an estimated 2,703 applications).

Requirement | Annual number of respondents | Total annual responses | Completion time per response (hours) | Total annual burden hours *
General Special Use Application (Form 3-1383-G)
Individuals | 2,285 | 2,285 | 0.5 | 1,143
Private Sector | 1,219 | 1,219 | 0.5 | 610
Government | 305 | 305 | 0.5 | 153
Subtotal | 3,809 | 3,809 |  | 1,906
Commercial Activities Special Use Application (Form 3-1383-C)
Individuals | 1,595 | 1,595 | 4 | 6,380
Private Sector | 1,000 | 1,000 | 4 | 4,000
Government | 108 | 108 | 4 | 432
Subtotal | 2,703 | 2,703 |  | 10,812
Research and Monitoring Special Use Application (Form 3-1383-R)
Individuals | 209 | 209 | 5 | 1,045
Private Sector | 403 | 403 | 5 | 2,015
Government | 135 | 135 | 5 | 675
Subtotal | 747 | 747 |  | 3,735
Bid Sheet—National Wildlife Refuge System (Form 3-1384)
Individuals | 150 | 150 | 1 | 150
Private Sector | 95 | 95 | 1 | 95
Government | 5 | 5 | 1 | 5
Subtotal | 250 | 250 |  | 250
Activity Reports
Individuals | 40 | 40 | 0.5 | 20
Private Sector | 466 | 466 | 0.5 | 233
Government | 100 | 100 | 0.5 | 50
Subtotal | 606 | 606 |  | 303
Totals | 8,115 | 8,115 |  | 17,006

An agency may not conduct or sponsor and a person is not required to respond to a collection of information unless it displays a currently valid OMB control number.

The authority for this action is the Paperwork Reduction Act of 1995 (44 U.S.C. 3501 et seq.).

Dated: September 10, 2019.
Madonna L. Baucum,
Information Collection Clearance Officer, U.S. Fish and Wildlife Service.

[FR Doc. 2019-19847 Filed 9-12-19; 8:45 am]

BILLING CODE 4333-15-P